ARCHITECTURAL AND TRANSPORTATION BARRIERS COMPLIANCE BOARD

[Docket No. ATBCB-2013-0001]

RIN 3014-AA42

Rail Vehicles Access Advisory Committee

AGENCY: Architectural and Transportation Barriers Compliance Board.

ACTION: Notice of charter renewal.

SUMMARY: Notice is hereby given that the Rail Vehicles Access Advisory Committee's (RVAAC) charter is being renewed.

FOR FURTHER INFORMATION CONTACT: Paul Beatty, Designated Federal Officer at (202) 272-0012 (Voice); (202) 272-0072 (TTY). Electronic mail address: rvaac@access-board.gov.

SUPPLEMENTARY INFORMATION: Pursuant to Section 14(a)(2)(A) of the Federal Advisory Committee Act (Pub. L. 92-463), and in accordance with Title 41 of the Code of Federal Regulations, section 102-3.65(a), and following consultation with the Committee Management Secretariat, General Services Administration, the RVAAC charter is renewed. The Committee will provide advice to the Access Board on revising and updating our accessibility guidelines issued pursuant to the Americans with Disabilities Act for transportation vehicles that operate on fixed guideway systems (e.g., rapid rail, light rail, commuter rail, intercity rail, and high speed rail). Additionally, the renewal of the RVAAC has been determined to be essential to the work of the Access Board and to be in the public interest in connection with the performance of duties required by law. The Committee will continue to operate in accordance with the provisions of the Federal Advisory Committee Act and the rules and regulations that implement that Act.

David M. Capozzi,
Executive Director.

[FR Doc. 2015-06543 Filed 3-20-15; 8:45 am]

BILLING CODE 8150-01-P